DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 29, 2003.

Interested persons are invited to submit written comments regarding the subject matter of the investigations to the Director, Division of Trade Adjustment Assistance, at the address shown below, not later than September 29, 2003.

The petitions filed in this case are available for inspection at the Office of the Director, Division of Trade Adjustment Assistance, Employment and Training Administration, U.S. Department of Labor, Room C-5311, 200 Constitution Avenue, NW, Washington, DC 20210.

Signed at Washington, DC, this 19th day of August 2003.
Timothy Sullivan,
Acting Director, Division of Trade Adjustment Assistance.

Appendix
[Petitions instituted between 08/11/2003 and 08/15/2003]
TA-W | Subject firm (petitioners) | Location | Date of institution | Date of petition
52,493 | North Pacific Processors, Inc., (Comp) | Cordova, AK | 08/11/2003 | 08/05/2003
52,494 | F/V Lumi (Comp) | Seward, AK | 08/11/2003 | 06/16/2003
52,495 | Carey Farmer (Comp) | Eagle River, AK | 08/11/2003 | 08/07/2003
52,496 | Mann Edge Tool Co. (Wkrs) | Lewistown, PA | 08/11/2003 | 07/14/2003
52,497 | Renfro Corp. (Comp) | Pulaski, VA | 08/11/2003 | 08/06/2003
52,498 | Smart Modular Technologies, Inc. (Comp) | Wilmington, MA | 08/11/2003 | 08/07/2003
52,499 | Pennsylvania Electric Coil Ltd. (USWA) | Glassport, PA | 08/11/2003 | 08/06/2003
52,500 | Volex, Inc. (Wkrs) | Conover, NC | 08/11/2003 | 08/08/2003
52,501 | Hexcel Corp. (SC) | Anderson, SC | 08/11/2003 | 07/21/2003
52,502 | Norwood Promotional Products (MN) | Sleepy Eye, MN | 08/11/2003 | 08/07/2003
52,503 | Carolina Mills, Inc. (Comp) | Newton, NC | 08/11/2003 | 08/07/2003
52,504 | Wirco Castings, Inc. (Comp) | New Athens, IL | 08/11/2003 | 08/07/2003
52,505 | Flextronics Logistics (Comp) | Mt. Juliet, TN | 08/11/2003 | 08/08/2003
52,506 | K and S Interconnect, Inc. (Comp) | Dallas, TX | 08/11/2003 | 07/11/2003
52,507 | Carris Financial Corp. (Comp) | Brandon, VT | 08/11/2003 | 08/07/2003
52,508 | Crystal Creative Products (Comp) | Maysville, KY | 08/11/2003 | 07/24/2003
52,509 | A.T. Cross Company (Comp) | Lincoln, RI | 08/11/2003 | 08/06/2003
52,510 | General Binding Corp. (Comp) | Bonneville, MS | 08/11/2003 | 07/30/2003
52,511 | Cooper Crouse-Hinds Myers-Hubs (Comp) | Montebello, CA | 08/11/2003 | 08/05/2003
52,512 | Triquint Optoelectronics (Comp) | Breinigsville, PA | 08/11/2003 | 07/29/2003
52,513 | Del Monte Fresh Produce (ILWU) | Honolulu, HI | 08/11/2003 | 07/28/2003
52,514 | Dynacast, Inc. (Comp) | Yorktown Hgts., NY | 08/11/2003 | 07/25/2003
52,515 | Buffalo China (GMPPA) | Buffalo, NY | 08/11/2003 | 07/27/2003
52,516 | John S. Tilley Ladders Co., Inc. (The) (USWA) | Watervliet, NY | 08/11/2003 | 07/30/2003
52,517 | Solutia, Inc. (Comp) | Decatur, AL | 08/11/2003 | 08/05/2003
52,518 | Paper Converting Machine Co. (UAW) | Green Bay, WI | 08/11/2003 | 08/01/2003
52,519 | Holm Industries, Inc. (Comp) | Galesburg, IL | 08/12/2003 | 08/11/2003
52,520 | F/V Pamela Dawn (Comp) | Kodiak, AK | 08/12/2003 | 08/08/2003
52,521 | Novell, Inc. (Wkrs) | Provo, UT | 08/12/2003 | 07/17/2003
52,522 | Relax-R Corp. (Wkrs) | Milton, VT | 08/12/2003 | 08/06/2003
52,523 | Hanes Dye and Finishing Company (Comp) | Winston-Salem, NC | 08/12/2003 | 08/11/2003
52,524 | Viceroy Gold Corporation (Comp) | Searchlight, NV | 08/12/2003 | 08/11/2003
52,525 | Alcatel (Wkrs) | Spokane, WA | 08/12/2003 | 08/05/2003
52,526 | Halliburton (Comp) | Prudhoe Bay, AK | 08/12/2003 | 07/29/2003
52,527 | MOCAP, Inc. (Comp) | Farmington, MO | 08/12/2003 | 08/06/2003
52,528 | A and E Products (Wkrs) | Ringtown, PA | 08/12/2003 | 08/01/2003
52,529 | Marshall Gas Controls (Comp) | San Marcos, TX | 08/12/2003 | 07/31/2003
52,530 | Flour Industrial Services (Wkrs) | Kannapolis, NC | 08/12/2003 | 08/11/2003
52,531 | Solectron Global Services (Wkrs) | Beaverton, OR | 08/12/2003 | 07/17/2003
52,532 | EXFO Burleigh Products Group, Inc. (Wkrs) | Victor, NY | 08/12/2003 | 07/09/2003
52,533 | GECP Lighting (Comp) | Mattoon, IL | 08/12/2003 | 08/04/2003
52,534 | Advanced Cast Products, Inc. (Comp) | Meadville, PA | 08/12/2003 | 08/11/2003
52,535 | Admanco, Inc. (Comp) | Ripon, WI | 08/12/2003 | 08/11/2003
52,536 | WinTron Technologies (Comp) | Howard, PA | 08/12/2003 | 08/08/2003
52,537 | Best Buy Co., Inc. (MN) | Eden Prairie, MN | 08/12/2003 | 08/08/2003
52,538 | Custom Tool and Design, Inc. (Wkrs) | Erie, PA | 08/12/2003 | 07/23/2003
52,539 | Xerox Corporation (Wkrs) | Webster, NY | 08/12/2003 | 07/24/2003
52,540 | IRC Acquisition (Wkrs) | Corinth, MS | 08/12/2003 | 07/29/2003
52,541 | Alabama Metal Industries Corp. (Wkrs) | Liberty, MO | 08/12/2003 | 08/05/2003
52,542 | Columbus Ind., Inc. (Wkrs) | Ashville, OH | 08/12/2003 | 07/29/2003
52,543 | Arch Chemicals, Inc. (Wkrs) | Lake Charles, LA | 08/12/2003 | 07/21/2003
52,544 | Alstom Power (Comp) | Easton, PA | 08/12/2003 | 08/11/2003
52,545 | Bose Corporation (Wkrs) | Framingham, MA | 08/12/2003 | 07/25/2003
52,546 | Baxter International (Comp) | Rochester, MI | 08/12/2003 | 08/04/2003
52,547 | Cooper-Atkins Corporation (Comp) | Middlefield, CT | 08/13/2003 | 08/11/2003
52,548 | Ashland Chemicals (Wkrs) | San Antonio, TX | 08/13/2003 | 08/12/2003
52,549 | Broadway and Son Electric, Inc. (Comp) | China Grove, NC | 08/13/2003 | 08/11/2003
52,550 | Crane Valve (Wkrs) | Washington, IA | 08/13/2003 | 08/11/2003
52,551 | Mueller Gas Products (IAM) | Waynesboro, TN | 08/13/2003 | 08/12/2003
52,552 | Joy Mining Machinery (Wkrs) | Abingdon, VA | 08/13/2003 | 07/14/2003
52,553 | Berwick Weaving, Inc. (Wkrs) | Berwick, PA | 08/13/2003 | 08/11/2003
52,554 | JohnCo Hosiery, Inc. (Comp) | Fort Payne, AL | 08/14/2003 | 08/11/2003
52,555 | Cherokee Hosiery Mill, Inc. (Comp) | Fort Payne, AL | 08/14/2003 | 08/11/2003
52,556 | Visteon Systems LLC (Wkrs) | Lansdale, PA | 08/14/2003 | 08/03/2003
52,557 | Inflation Systems Inc. (Wkrs) | Moses Lake, WA | 08/14/2003 | 08/13/2003
52,558 | Edison Fashion, Inc. (AWJB) | Bronx, NY | 08/15/2003 | 08/11/2003
52,559 | Pillowtex (Comp) | Kannapolis, NC | 08/15/2003 | 08/15/2003
52,560 | Minnesota Ore Operations (MN) | Mt. Iron, MN | 08/15/2003 | 08/13/2003
52,561 | Benchmark Electronics (MN) | Winona, MN | 08/15/2003 | 08/14/2003
52,562 | Rothtec Engraving Corp. (Comp) | Spartanburg, SC | 08/15/2003 | 08/12/2003
52,563 | Sheet Metal Specialities, Inc. (Comp) | Waxhaw, NC | 08/15/2003 | 08/13/2003
52,564 | Prewett Mills Distribution Center (Comp) | Ft. Payne, AL | 08/15/2003 | 08/12/2003
52,565 | John Manville (USWA) | Vienna, WV | 08/15/2003 | 08/08/2003
52,566 | Copperweld (USWA) | Piqua, OH | 08/15/2003 | 08/06/2003
52,567 | Agilent Technologies, Inc. (Wkrs) | Colorado Spgs., CO | 08/15/2003 | 08/11/2003
52,568 | DAY International, Inc. (Comp) | Greenville, SC | 08/15/2003 | 08/07/2003
52,569 | Hasler, Inc. (Wkrs) | Shelton, CT | 08/15/2003 | 07/18/2003
52,570 | DePuy Orthopedic (Comp) | Albuquerque, NM | 08/15/2003 | 08/13/2003
52,571 | Dean Company (The) (Wkrs) | Princeton, WV | 08/15/2003 | 07/30/2003
52,572 | Allsteel, Inc. (Comp) | W. Hazelton, PA | 08/15/2003 | 08/14/2003
52,573 | Gentry Mills, Inc. (Wkrs) | Albemarle, NC | 08/15/2003 | 08/11/2003

[FR Doc. 03-23695 Filed 9-16-03; 8:45 am]

BILLING CODE 4510-30-M